OFFICE OF THE UNITED STATES TRADE REPRESENTATIVE

Request for Comments Concerning an Environmental Review of the Proposed Trans-Pacific Partnership Trade Agreement

AGENCY: Office of the United States Trade Representative (USTR).

ACTION: Notice of intent to conduct an environmental review of the proposed Trans-Pacific Partnership (TPP) trade agreement and request for comments.

SUMMARY: This publication gives notice that the Office of the United States Trade Representative (USTR), through the Trade Policy Staff Committee (TPSC), is initiating an environmental review of the proposed Trans-Pacific Partnership Trade Agreement (TPP) between the United States and the other countries currently involved in TPP negotiations. The TPSC is requesting written comments from the public on what should be included in the scope of the environmental review, including the potential environmental effects that might flow from the trade agreement and the potential implications for U.S. environmental laws and regulations. The TPSC is also requesting identification of potential complementarities between trade and environmental objectives such as the promotion of sustainable development. The TPSC also welcomes public views on appropriate methodologies and sources of data for conducting the review. The review will be conducted consistent with the relevant procedures of Executive Order 13141 (64 FR 63169) (Nov. 18, 1999) and its implementing guidelines (65 FR 79442). Persons submitting written comments should provide as much detail as possible on the degree to which the subject matter they propose for inclusion in the review may raise significant environmental issues in the context of the negotiation. Public comments on environmental issues submitted in response to a previous notice (74 FR 66720) requesting comments from the public to assist USTR in formulating positions and proposals with respect to all aspects of the negotiation of a Trans-Pacific Partnership Trade Agreement will be taken into account in preparing the environmental review and do not need to be resubmitted.

DATES: Written comments are due by June 1, 2010.

ADDRESSES: Submissions via on-line: http://www.regulations.gov. For alternatives to on-line submissions, please contact Gloria Blue, Executive Secretary, Trade Policy Staff Committee (TPSC), at (202) 395-3475.

FOR FURTHER INFORMATION CONTACT: For procedural questions concerning written comments, please contact Gloria Blue at the above number. All other questions regarding the environmental review of the TPP trade agreement should be directed to David Brooks, Environment and Natural Resources Section, USTR, at (202) 395-7320.

SUPPLEMENTARY INFORMATION:

1. Background Information

On December 14, 2009, USTR notified Congress of the President's intent to enter into negotiations of the Trans-Pacific Partnership, a regional, Asia-Pacific trade agreement. The United States is entering into negotiations with the Trans-Pacific Partnership countries (Singapore, Chile, New Zealand, Brunei Darussalam, Australia, Peru and Vietnam) with the goal of shaping a high-standard, 21st century, regional agreement that will have broad-based membership. Through notices in the Federal Register and a public hearing (held March 4, 2009 in Washington, DC), the TPSC invited the public to provide written comments and/or oral testimony to assist USTR in amplifying and clarifying negotiating objectives for the proposed TPP and to provide advice on how specific goods and services and other matters should be treated under the proposed agreement (see 74 FR 4480; 74 FR 66720). Additional information about the proposed Trans-Pacific Partnership Free Trade Agreement can be found at http://www.ustr.gov/tpp.

2. Environmental Review

USTR, through the TPSC, will conduct an environmental review of the agreement consistent with Executive Order 13141 (64 FR 63169) and its implementing guidelines (65 FR 79442). Environmental reviews are used to identify potentially significant, reasonably foreseeable environmental impacts (both positive and negative), and information from the review can help facilitate consideration of appropriate responses where impacts are identified. Reviews address potential environmental impacts of the proposed agreement and potential implications for environmental laws and regulations. The focus of the review is on impacts in the United States, although global and trans-boundary impacts may be considered, where appropriate and prudent.

Environmental reviews were conducted for bilateral free trade agreements concluded with a number of TPP negotiating partners. Environmental reviews for the U.S.-Singapore FTA, the U.S.-Chile FTA, the U.S.-Australia FTA and the U.S.-Peru Trade Promotion Agreement are available on the USTR Web site: http://www.ustr.gov/trade-topics/environment/environmental-reviews. These reviews provide background information on the FTA partner, information on trade-related environmental issues in the context of the bilateral free trade agreement, as well as information on the approach to conducting environmental reviews.

3. Requirements for Submissions

Persons submitting comments must do so in English and must identify (on the first page of the submission) the “United States-Trans-Pacific Partnership Trade Agreement.” In order to be assured of consideration, comments should be submitted by June 1, 2010.

In order to ensure the timely receipt and consideration of comments, USTR strongly encourages commenters to make on-line submissions, using the http://www.regulations.gov Web site. Comments should be submitted under the following docket: USTR-2010-0010. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the http://www.regulations.gov Web site, please consult the resources provided on the website by clicking on the “Help” tab.)

The http://www.regulations.gov Web site provides the option of making submissions by filling in a comments field, or by attaching a document. USTR prefers submissions to be provided in an attached document. If a document is attached, it is sufficient to type “See attached” in the “Type comment & Upload File” field. USTR prefers submissions in Microsoft Word (.doc) or Adobe Acrobat (.pdf). If the submission is in an application other than those two, please indicate the name of the application in the “Comments” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments.

Please do not attach separate cover letters to electronic submissions; rather, include any information that might appear in a cover letter in the comments themselves. Similarly, to the extent possible, please include any exhibits, annexes, or other attachments in the same file as the submission itself, not as separate files.

USTR strongly urges submitters to file comments through http://www.regulations.gov, if at all possible. Any alternative arrangements must be made with Ms. Blue in advance of transmitting a comment. Ms. Blue should be contacted at (202) 395-3475. General information concerning USTR is available at http://www.ustr.gov.

Carmen Suro-Bredie,
Chair, Trade Policy Staff Committee.

[FR Doc. 2010-6653 Filed 3-24-10; 8:45 am]

BILLING CODE 3190-W0-P